DEPARTMENT OF JUSTICE

Drug Enforcement Administration

Manufacturer of Controlled Substances; Notice of Pending Registration

By Notice dated January 27, 2003, and published in the Federal Register on February 6, 2003, (68 FR 6183), Houba, Inc., 16235 State Road 17, Culver, Indiana 46511, made application by renewal to the Drug Enforcement Administration (DEA) for registration as a bulk manufacturer of the basic classes of Schedule II controlled substances Oxycodone (9143) and Hydrocodone (9193). The firm plans to bulk manufacture the controlled substances for sale to its customers for the production of finished dosage form products.

Comments and Objections have been filed with the Drug Enforcement Administration and are currently under review. A final decision regarding the firm's renewal application as a bulk manufacturer is hereby being held pending investigation and resolution of issues raised.

Houba, Inc. is authorized to continue operating under the manufacturer registration issued pursuant to the Notice of Registration published June 13, 2002 (67 FR 40752) pending final approval or denial of the renewal application.

Dated: May 23, 2003.
Laura M. Nagel,
Deputy Assistant Administrator, Office of Diversion Control, Drug Enforcement Administration.

[FR Doc. 03-14737 Filed 6-10-03; 8:45 am]

BILLING CODE 4410-09-M